DEPARTMENT OF TRANSPORTATION

Federal Motor Carrier Safety Administration

[Docket No. FMCSA-2020-0076]

Trucking Safety Summit; Public Meeting

AGENCY: Federal Motor Carrier Safety Administration (FMCSA), DOT.

ACTION: Notice of public meeting.

SUMMARY: FMCSA announces a public meeting: “The FMCSA 2020 Trucking Safety Summit.” This meeting will be held virtually on August 5, 2020, to solicit information on improving the safe operation of property-carrying commercial motor vehicles on our Nation's roadways. The virtual meeting will provide interested stakeholders—including motor carriers, drivers, safety technology developers and users, Federal and State partners, safety advocacy groups—as well as members of the public—an opportunity to share their ideas on improving trucking safety. The event will be hosted virtually by FMCSA from the U.S. Department of Transportation headquarters building in Washington, DC.

DATES: The virtual public meeting will be held Wednesday, August 5, 2020, from 9 a.m. to 4:30 p.m., EDT. A full agenda of the meeting is available online at https://www.fmcsa.dot.gov/safety/fmcsa-truck-safety-summit.

Public Comment: The virtual public meeting will include a brief public comment period in the mid to late afternoon. For information on registering for the Summit and providing oral comments during the public comment session, refer to the web page at https://www.fmcsa.dot.gov/safety/fmcsa-truck-safety-summit. Please limit oral public comments to 2 to 3 minutes. If all interested participants have had an opportunity to comment, the public comment period may conclude early. Presentations and public participation will be provided by electronic means to ensure compliance with Federal guidelines for public events during the COVID-19 public health emergency. Due to limitations on electronic participation, advance registration by the date specified at https://www.fmcsa.dot.gov/safety/fmcsa-truck-safety-summit is required. Those wishing to submit written comments, data, or analysis on trucking safety may do so here: Docket No. FMCSA-2020-0076 at regulations.gov.

ADDRESSES: The public meeting will be held via videoconference. Participation in the virtual public meeting is free, but advance registration is required. You may register at the web page https://www.fmcsa.dot.gov/safety/fmcsa-truck-safety-summit.

FOR FURTHER INFORMATION CONTACT: Ms. Janettarose L. Greene, (202) 366-5694, FMCSA-PIO@dot.gov, Federal Motor Carrier Safety Administration, U.S. Department of Transportation, 1200 New Jersey Avenue SE, Washington, DC 20590-0001.

Services for Individuals with Disabilities: FMCSA is committed to providing equal access to this meeting for all. For information on services for individuals with disabilities, please contact Ms. Greene at the number or email address above by July 31 at https://www.fmcsa.dot.gov/safety/fmcsa-truck-safety-summit.

SUPPLEMENTARY INFORMATION:

Background

Data and analysis released by the National Highway Traffic Safety Administration show that over the last several years there has been an increase in fatalities resulting from crashes involving large trucks. See, for example, Large Truck Traffic Safety Fact Sheet (DOT HS # 812-663, available at https://crashstats.nhtsa.dot.gov/#/). To respond to this trend, FMCSA continues to work with State entities, industry, and others to identify new approaches to safety. These approaches can involve technology, company management practices, enforcement, outreach and education, and other techniques—encompassing a holistic approach to truck safety.

FMCSA is convening a virtual conference, “The FMCSA 2020 Trucking Safety Summit,” on August 5, 2020 (replacing a canceled conference scheduled for March 19), to solicit information on improving the safe operation of property-carrying commercial motor vehicles on our Nation's roadways. This event will provide diverse stakeholders—including motor carriers, drivers, safety technology developers and users, Federal and State partners, safety advocacy groups, and members of the public—an opportunity to share their ideas on improving trucking safety. The sessions are intentionally structured to facilitate exchanges between experienced players in the trucking sphere who might not otherwise meet to collaborate. Senior FMCSA personnel will facilitate every session, selecting and posing questions to promote a productive discussion. FMCSA intends to record the session and will follow up with a record of proceedings or Safety Action Plan in the weeks following the event.

FMCSA will present and solicit information during six panel discussions. FMCSA will also provide a live streaming video of the Trucking Safety Summit for interested parties to share in the information being presented. To ensure compliance with Federal guidelines for public events during the COVID-19 public health emergency, the Agency will provide an opportunity for all participants and the public to take part virtually in the conference and the public comment session. The Agency will provide the public with all relevant details for participating in this meeting in advance at https://www.fmcsa.dot.gov/safety/fmcsa-truck-safety-summit.

Meeting participants must register in advance to participate and to gain access to the virtual public meeting. To register, please go to the website listed above. Oral comments from the public will be heard during the meeting. Members of the public may also submit written comments to the public docket referenced at the beginning of this notice using any of the following methods:

• Federal eRulemaking Portal: Go to http://www.regulations.gov. Follow the online instructions for submitting comments.

• Fax: 202-493-2251.

• Mail: Docket Management Facility; U.S. Department of Transportation, 1200 New Jersey Avenue SE, Room W12-140, Washington, DC 20590.

Hand Delivery: U.S. Department of Transportation, 1200 New Jersey Avenue SE, West Building, Room W12-140, Washington, DC, between 9 a.m. and 5 p.m., E.T. Monday through Friday, except Federal holidays. To be sure someone is there to help you, please call (202) 366-9317 or (202) 366-9826 before visiting Docket Operations.

James A. Mullen,
Deputy Administrator.

[FR Doc. 2020-15836 Filed 7-17-20; 12:00 pm]

BILLING CODE 4910-EX-P